FEDERAL COMMUNICATIONS COMMISSION

47 CFR Chapter I

[WC Docket No. 07-245, GN Docket No. 09-51; Report No. 2931]

A National Broadband Plan for Our Future; Petition for Reconsideration

AGENCY: Federal Communications Commission.

ACTION: Final rule; petition for reconsideration.

SUMMARY: In this document, Petitions for Reconsideration (Petitions) have been filed in the Commission's Rulemaking proceeding concerning a national broadband plan for our future and published pursuant to 47 CFR 1.429(e). See 1.4(b)(1) of the Commission's rules (47 CFR 1.4(b)(1)).

DATES: Oppositions to Petitions must be filed by August 10, 2011. Replies to an opposition must be filed August 22, 2011.

ADDRESSES: Federal Communications Commission, 445 12th Street, SW., Washington, DC 20554.

FOR FURTHER INFORMATION CONTACT: Jennifer Prime, Wireline Competition Bureau, 202-418-2403.

SUPPLEMENTARY INFORMATION: This is a summary of Commission's document, Report No. 2931, released June 20, 2011. The full text of this document is available for viewing and copying in Room CY-B402, 445 12th Street, SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: In the Matter of Implementation of Section 224 of the Act (WC Docket No. 07-245); A National Broadband Plan for our Future (GN Docket No. 09-51).

Number of Petitions Filed: 2.

Marlene H. Dortch,
Secretary, Federal Communications Commission.

[FR Doc. 2011-18090 Filed 7-25-11; 8:45 am]

BILLING CODE 6712-01-P